Executive Order 14307 of June 6, 2025

Unleashing American Drone Dominance

By the authority vested in me as President by the Constitution and the laws of the United States of America, it is hereby ordered:

Section 1. Purpose. Unmanned aircraft systems (UAS), otherwise known as drones, enhance United States productivity, create high-skilled jobs, and are reshaping the future of aviation. Drones are already transforming industries from logistics and infrastructure inspection to precision agriculture, emergency response, and public safety. Emerging technologies such as electric Vertical Takeoff and Landing (eVTOL) aircraft promise to modernize methods for cargo delivery, passenger transport, and other advanced air mobility capabilities.

The United States must accelerate the safe commercialization of drone technologies and fully integrate UAS into the National Airspace System. The time has come to accelerate testing and to enable routine drone operations, scale up domestic production, and expand the export of trusted, American-manufactured drone technologies to global markets. Building a strong and secure domestic drone sector is vital to reducing reliance on foreign sources, strengthening critical supply chains, and ensuring that the benefits of this technology are delivered to the American people.

Sec. 2. Definitions. For the purposes of this order:

(a) The term “agency” has the meaning given to the term in 44 U.S.C. 3502(1).

(b) The terms “unmanned aircraft system” and “drone” have the meaning given to the term “unmanned aircraft system” in 49 U.S.C. 44801(12).

Sec. 3. Policy. It is the policy of the United States to ensure continued American leadership in the development, commercialization, and export of UAS by:

(a) accelerating the safe integration of UAS into the National Airspace System through timely, risk-based rulemaking that enables routine advanced operations;

(b) advancing the domestic commercialization of UAS technologies at scale, including their safe and secure manufacturing, production, and integration, by supporting industry-led innovation, reducing regulatory uncertainty, and streamlining approvals and certification processes, including for consumer goods delivery and environmental reviews; and

(c) strengthening the domestic drone industrial base and promoting the export of trusted, American-manufactured UAS through updated economic policies and regulation, coordinated trade, financing, and foreign engagement tools.

Sec. 4. Expanding Commercial Unmanned Aircraft Systems Operations. (a) Within 30 days of the date of this order, the Secretary of Transportation, acting through the Administrator of the Federal Aviation Administration (FAA), shall issue a proposed rule enabling routine Beyond Visual Line of Sight (BVLOS) operations for UAS for commercial and public safety purposes. A final rule shall be published within 240 days of the date of this order, as appropriate.

(b) Within 30 days of the date of this order, the Secretary of Transportation, acting through the Administrator of the FAA, shall establish clear metrics for assessing the performance and safety of BVLOS operations, and within 180 days of the date of this order, shall identify and describe additional regulatory barriers and challenges to BVLOS implementation, with recommendations to the President through the Director of the Office of Science and Technology Policy (OSTP) for addressing such issues expeditiously and informing future rulemaking or legislative actions.

(c) Within 120 days of the date of this order, the Secretary of Transportation, acting through the Administrator of the FAA, shall initiate the deployment of artificial intelligence (AI) tools to assist in and expedite the review of UAS waiver applications under 14 CFR part 107. These AI tools shall:

(i) support performance- and risk-based evaluation of proposed operations;

(ii) identify materially similar precedents and recommend consistent mitigation measures;

(iii) assist the FAA in identifying categories of operations with sufficient safety data or recurring approval patterns that may warrant further rulemaking to eliminate the need for individualized waivers; and

(iv) be used in accordance with guidance on Federal use of AI as detailed in Office of Management and Budget Memorandum M-25-21.

(d) The Secretary of Transportation, acting through the Administrator of the FAA, shall immediately explore options to ensure that UAS flights beginning and ending in United States airspace, or United States-owned facilities in the high seas, can operate without being subject to the onerous requirements applicable to manned aircraft engaging in international navigation as referenced in the Convention on International Civil Aviation.

Sec. 5. Furthering Unmanned Aircraft Systems Integration into the National Airspace System. (a) Within 240 days of the date of this order, the Secretary of Transportation, acting through the Administrator of the FAA, shall publish an updated roadmap for the integration of civil UAS into the National Airspace System.

(b) The Secretary of Transportation, acting through the Administrator of the FAA, shall ensure all FAA UAS Test Ranges are fully utilized to support the development, testing, and scaling of American drone technologies, with a focus on BVLOS operations, increasingly autonomous operations, advanced air mobility, and other advanced operations. The Secretary shall prioritize the generation of safety and performance data at UAS Test Ranges to inform FAA rulemaking, identify regulatory gaps and operational challenges, and support the integration of emerging UAS capabilities into the National Airspace System.

Sec. 6. Establishment of an Electric Vertical Takeoff and Landing Pilot Program. (a) The Secretary of Transportation, acting through the Administrator of the FAA, and in coordination with the Director of OSTP, shall establish the eVTOL Integration Pilot Program (eIPP) as an extension of the BEYOND program to accelerate the deployment of safe and lawful eVTOL operations in the United States.

(i) Within 90 days of the date of this order, the Secretary of Transportation, acting through the Administrator of the FAA, shall issue a public request for proposals to State, local, tribal, and territorial governments. Proposals must be submitted within 90 days of the request and include a private sector partner with demonstrated experience in eVTOL aircraft development, manufacturing, and operations.

(ii) Within 180 days of the request, the Secretary of Transportation, acting through the Administrator of the FAA, shall select at least five pilot projects that plan to begin eVTOL operations within 90 days after the date on which any agreement for a pilot project is established. Selection criteria shall include, at a minimum, the use of eVTOL aircraft and technologies developed or offered by a United States-based entity; overall representation of economic and geographic operations and proposed models of public-private partnership; and overall representation of the operations to be conducted, including advanced air mobility, medical response, cargo transport, and rural access.

(iii) The Secretary of Transportation, acting through the Administrator of the FAA, shall execute agreements with selected applicants, outlining project goals, regulatory needs, timelines, information sharing and data exchange mechanisms, and responsibilities. The Secretary of Transportation shall use all available authorities to the fullest extent to support safe and timely operations under the eIPP.

(iv) Within 180 days after the selection of pilot program participants, the Secretary of Transportation shall submit an initial implementation report to the President through the Director of OSTP, summarizing early-stage planning, interagency coordination, and any immediate regulatory or legislative challenges identified. The Secretary of Transportation shall submit an annual report thereafter and, upon program completion, shall submit a final report to the President, through the Director of OSTP, that includes, at a minimum, an evaluation of program goals and outcomes; recommendations for the permanent integration of eVTOL operations into the national airspace; and any proposed future initiatives to maintain United States leadership in eVTOL flight.

(v) The eIPP shall conclude 3 years after the date the first pilot project becomes operational, unless the Secretary of Transportation determines that an extension is warranted in the national interest.

(vi) Before and after the conclusion of the eIPP, the Secretary of Transportation shall use the information and experience yielded by the eIPP to inform the development of regulations, initiatives, and plans to enable safe eVTOL operations, and shall, as appropriate, share information with the Secretary of Defense, the Attorney General, the Secretary of Homeland Security, and the heads of other relevant agencies.

(vii) The Secretary of Transportation, in consultation with the Director of OSTP, may expand this pilot program to other advanced aviation aircraft as warranted.

Sec. 7. Strengthening the American Drone Industrial Base. (a) All agencies shall prioritize the integration of UAS manufactured in the United States over those made abroad to the maximum extent permitted by law.

(b) In order to protect the integrity of America's drone supply chain and ensure our technology remains secure from undue foreign influence and exploitation, within 30 days of the date of this order, the Federal Acquisition Security Council shall publish a Covered Foreign Entity List, as defined in section 1822(1) of the National Defense Authorization Act for Fiscal Year 2024 (Public Law 118-31), identifying companies that pose supply chain risks.

(c) To ensure that vital components remain under American control and free from national security risks, within 90 days of the date of this order, the Secretary of Commerce shall take actions, including proposing rulemaking and conducting investigations, to secure the United States drone supply chain against foreign control or exploitation.

Sec. 8. Promoting the Export of American-Made Civil Unmanned Aircraft Systems. (a) The Secretary of Commerce, in coordination with the Secretary of State, the Secretary of Defense, and the Secretary of Energy, shall review and, as appropriate and consistent with applicable law, amend export control regulations within 90 days of the date of this order to enable the expedited export of United States-manufactured civil UAS to foreign partners, provided such end-users and recipient countries are not identified as foreign adversaries and the export does not pose a risk of diversion to programs of concern, or are otherwise restricted under applicable statutes or regulations.

(b) The Secretary of Commerce shall designate the export of United States-manufactured civil UAS as a priority area within the Department of Commerce's export promotion efforts and shall coordinate interagency initiatives to expand market access, reduce foreign trade barriers, and promote international interoperability.

(c) The Secretary of Defense, the President of the Export-Import Bank of the United States, the Chief Executive Officer of the United States International Development Finance Corporation, and the Director of the Trade and Development Agency shall, to the maximum extent permitted by law, prioritize and support the export of United States-manufactured civil UAS and related systems through the use of, as appropriate:

(i) direct loans and loan guarantees;

(ii) equity investments and co-financing;

(iii) political risk insurance and credit guarantees;

(iv) technical assistance, feasibility studies, and grant mechanisms;

(v) market access facilitation; and

(vi) any other incentive mechanisms authorized by law.

Sec. 9. Delivering Drones to Our Warfighters. (a) The Department of Defense must be able to procure, integrate, and train using low-cost, high-performing drones manufactured in the United States. The Secretary of Defense shall:

(i) ensure all platforms on the Defense Innovation Unit's (DIU) Blue UAS List can, as soon as possible and to the fullest extent practicable, operate on all military installations or ranges without requiring an exception to policy;

(ii) within 90 days of the date of this order, expand DIU's Blue UAS List to include all drones and critical drone components compliant with section 848 of the National Defense Authorization Act for Fiscal Year 2020 (“FY 2020 NDAA”) (Public Law 116-92) to the fullest extent practicable;

(iii) update the Blue UAS List on a monthly basis;

(iv) ensure the procurement of drones compliant with section 848 of the FY 2020 NDAA and made by United States companies is prioritized over the procurement of drones made by all other companies to the maximum extent practicable and that exemptions and waivers to section 848 of the FY 2020 NDAA are used only when absolutely necessary to accomplish the mission; and

(v) ensure that compliance with section 848 of the FY 2020 NDAA does not inhibit the rapid adoption of drone technology required to exceed the capabilities of our foreign adversaries.

(b) Within 90 days of the date of this order, the Secretary of Defense shall coordinate with the Secretary of Transportation, acting through the Administrator of the FAA to streamline the approval processes to expand access to airspace for conducting UAS training. Within 90 days of the date of this order, the Secretary of Defense shall, in consultation with the Secretary of Commerce, acting through the Assistant Secretary of Commerce for Communications and Information, and the Federal Communications Commission, submit a report to the President through the Assistant to the President for National Security Affairs (APNSA) describing any unnecessary barriers to accessing electromagnetic spectrum for conducting UAS training.

(c) Within 90 days of the date of this order, the Secretary of Defense shall task the Secretary of each military department to identify programs that would be more cost efficient or lethal if replaced by UAS and shall submit a report to the President through the APNSA.

Sec. 10. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Transportation.

THE WHITE HOUSE,

June 6, 2025.

[FR Doc. 2025-10814

Filed 6-10-25; 11:15 am]

Billing code 4910-9X-P